DEPARTMENT OF ENERGY

Federal Energy Regulatory Commission

Notice of Combined Initial Information Meeting and Scoping Meeting, Project Site Visit, and Solicitation of Scoping Comments for an Applicant-Prepared Environmental Assessment Using the Alternative Licensing Process

May 12, 2003.

a. Type of Application: Alternative licensing process.

b. Project No.: 2204-019.

c. Applicant: City and County of Denver, Colorado.

d. Name of Project: Williams Fork Reservoir Project.

e. Location: On the Williams Fork River near its confluence with the Colorado River at Parshall, in Grand County, Colorado. No federal lands would be affected.

f. Filed Pursuant to: Federal Power Act, 16 U.S.C. 791(a)-825(r).

g. Applicant Contact: Kevin Urie, Denver Water, 1600 W. 12th Ave., Denver, CO 80204, (303) 628-5987.

h. FERC Contact: Dianne Rodman, at (202) 502-6077 or dianne.rodman@ferc.gov.

j. Deadline for filing scoping comments: August 4, 2003.

Comments should be addressed to: Mr. Kevin Urie, Project Coordinator—Williams Fork Project Relicensing, Denver Water, 1600 W. 12th Ave., Denver, CO 80204.

All documents (original and eight copies) should also be filed with: Magalie R. Salas, Secretary, Federal Energy Regulatory Commission, 888 First Street, NE., Washington, DC 20426.

The Federal Energy Regulatory Commission's (Commission) rules of practice and procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. The existing project consists of: (1) The 209-foot-high, 670-foot-long concrete thin arch dam with a crest elevation of 7,814 feet above mean sea level (msl); (2) the Williams Fork reservoir with a surface area of 1,628 acres and storage of 96,822 acre-feet at elevation 7,811 feet msl; (3) a reinforced concrete penstock intake on the face of the dam, with a 7-foot by 5-foot fixed wheel penstock gate controlling flows into a 66-inch-diameter steel penstock running through the dam; (4) river outlet works on the face of the dam, leading to a 54-inch-diameter steel embedded pipe that conveys water to the outlet works valves; (5) a 66-foot-long, 30-foot-wide, 60-foot-high concrete powerhouse at the toe of the dam, containing one vertical-axis turbine/generator with a capacity of 3,150 kilowatts (kW); (6) a tailrace excavated in the streambed rock, carrying the combined powerhouse and river outlet discharges; (7) a 60-foot by 40-foot switchyard; (8) and appurtenant equipment.

The applicant proposes to submit a license application that may request the Commission to first review the application for a small hydroelectric power project exemption from licensing, or alternatively for a new license. Under the exemption alternative, the applicant would increase the project's generating capacity to 3,650 kW by installing a second turbine/generator. Under the relicensing alternative, the applicant would to continue to operate the existing turbine/generator with a 3,150-kW capacity and would not install a second unit.

Scoping Process

The City and County of Denver, Colorado, acting by and through its Board of Water Commissioners (Denver Water), intends to utilize the Commission's alternative licensing process (ALP). Under the ALP, Denver Water intends to prepare an Applicant Prepared Environmental Assessment (APEA) and exemption/license application for the Williams Fork Reservoir Hydroelectric Project.

Denver Water expects to file with the Commission, the APEA and the exemption/license application for the Williams Fork Reservoir Hydroelectric Project by December 31, 2004. Although Denver Water's intent is to prepare an EA, there is the possibility that an Environmental Impact Statement (EIS) will be required. Nevertheless, this meeting will satisfy the NEPA scoping requirements, irrespective of whether an EA or EIS is issued by the Commission.

The purpose of this notice is to inform you of the opportunity to participate in the upcoming scoping meetings identified below, and to solicit your scoping comments.

Site Visit

On Wednesday, June 4, 2003, from 11 a.m. until 3:30 p.m., a site visit of the project will be conducted. The site visit is intended to provide the opportunity for interested individuals to learn more about the project, its operations, and the surrounding environment. Those wishing to attend should meet in Kremmling, Colorado by 11 a.m. at the Colorado State University Cooperative Extension of Grand County office (210 11th Street, Fairgrounds, Kremmling, CO, (970) 724-3436). Please contact Mr. Joe Sloan of Denver Water at (303) 628-6320 by May 26, 2003, if you plan to attend the site visit.

Scoping Meetings

Denver Water and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime Meeting

Thursday, June 5, 2003, 1 p.m. to 4 p.m. Colorado State Cooperative Extension, 210 11th Street, Fairgrounds, Kremmling, CO.

Evening Meeting

Thursday, June 5, 2003, 6 p.m. to 9 p.m. Colorado State Cooperative Extension, 210 11th Street, Kremmling, CO.

To help focus discussions, an initial information package (IIP) and Scoping Document 1 was mailed in April 2003, outlining the subject areas to be addressed in the APEA to the parties on the mailing list. Copies of the IIP and SD1 also will be available at the scoping meetings. The IIP and SD1 are available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659.

Register online at http://www.ferc.gov/esubscribenow.htm to be notified via email of new filings and issuances related to this or other pending projects. For assistance, contact FERC Online Support.

Based on all written comments received, a Scoping Document 2 (SD2) may be issued. SD2 will include a revised list of issues, based on the scoping sessions.

Objectives

At the scoping meetings, the staff will: (1) Summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to assist Denver Water in defining and clarifying the issues to be addressed in the APEA.

Magalie R. Salas,
Secretary.

[FR Doc. 03-12329 Filed 5-15-03; 8:45 am]

BILLING CODE 6717-01-P